DEPARTMENT OF EDUCATION

Office of Innovation and Improvement

Notice Reopening the Advanced Placement (AP) Test Fee Fiscal Year (FY) 2005 Competition

Catalog of Federal Domestic Assistance (CFDA) Number: 84.330B.

SUMMARY: On November 9, 2004, we published in the Federal Register (69 FR 65028) a notice inviting applications for the AP Test Fee FY 2005 competition. The original notice for this FY 2005 competition established a December 13, 2004 deadline date for eligible applicants to apply for funding under this program.

In order to afford as many eligible applicants as possible an opportunity to receive funding under this program, we are reopening the AP Test Fee FY 2005 competition. The new application deadline date for the competition is January 24, 2005.

DATES: Deadline for Transmittal of Applications: January 24, 2005 (by 4:30 p.m., Washington, DC time, if transmitted electronically or by hand-delivery).

Note: Applications for grants under the AP Test Fee program must be submitted electronically using the Electronic Grant Application System (e-Application) available through the Department's e-Grants system, unless a waiver is granted. For information (including dates and times) about how to submit your application electronically or to request a waiver of the electronic submission requirement, please refer to Section IV. 6. Other Submission Requirements in the November 9, 2004 notice (69 FR 65029-65030).

FOR FURTHER INFORMATION CONTACT: Madeline E. Baggett, U.S. Department of Education, 400 Maryland Avenue, SW., room 4W210, Washington, DC 20202-5943. Telephone: (202) 260-2502 or by e-mail: madeline.baggett@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: Any eligible applicant may apply for funding under this program by the deadline in this notice. Eligible applicants that submitted their applications for the AP Test Fee FY 2005 competition to the Department prior to the competition's original deadline date of December 13, 2004 are not required to re-submit their applications or re-apply in order to be considered for FY 2005 awards under this program. We encourage eligible applicants to submit their applications as soon as possible to avoid any problems with filing electronic applications on the last day. The deadline for submission of applications will not be extended any further.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 7, 2005.
Nina Shokraii Rees,
Assistant Deputy Secretary for Innovation and Improvement.

[FR Doc. E5-129 Filed 1-12-05; 8:45am]

BILLING CODE 4000-01-P